DEPARTMENT OF AGRICULTURE

Food and Nutrition Service

Agency Information Collection Activities: Proposed Collection; Comment Request—School Nutrition Dietary Assessment Study-IV (SNDA-IV)

AGENCY: Food and Nutrition Service, USDA.

ACTION: Notice.

SUMMARY: In accordance with the Paperwork Reduction Act of 1995, the Food and Nutrition Service (FNS) invites the general public and other public agencies to comment on this proposed information collection. This collection is a reinstatement with change of a previously approved collection for which approval has expired.

DATES: Written comments on this notice must be received on or before May 8, 2009.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to: Fred Lesnett, Contracting Officer's Representative, Food and Nutrition Service, U.S. Department of Agriculture, 3101 Park Center Drive, Alexandria, VA 22302. Comments may also be submitted via fax to the attention of Fred Lesnett at 703-305-2576 or via e-mail to Fred.Lesnett@fns.usda.gov. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Alexandria, Virginia 22302.

All responses to this notice will be summarized and included in the request for Office of Management and Budget approval. All comments will be a matter of public record.

FOR FURTHER INFORMATION CONTACT: Requests for additional information or copies of this information collection should be directed to Fred Lesnett at 703-605-0811.

SUPPLEMENTARY INFORMATION: Title: School Nutrition Dietary Assessment Study-IV (SNDA-IV).

OMB Number: 0584-0527.

Expiration Date: 1/31/2008.

Type of Request: This is a reinstatement with change of a previously approved data collection for which approval has expired.

Abstract: The School Nutrition Dietary Assessment-IV (SNDA-IV) will collect data from nationally representative samples of School Food Authorities (SFAs) and schools that participate in the National School Lunch Program (NSLP) (7 CFR Part 210), OMB No.: 0584-0006, Expiration Date: 03/31/2009. These data will provide federal, state, and local policymakers with information about how federally sponsored school meal programs (the NSLP and the School Breakfast Program (7 CFR Part 220), OMB No.: 0584-0012, Expiration Date: 3/31/2009) operate, how the nutrient and food content of meals and snacks offered and served in these programs conform with program standards, and how school meal programs have changed since the SNDA-III study was conducted and since the Child Nutrition and WIC Reauthorization Act of 2004 (Pub. L 108-265). SNDA-III data were collected in school year 2004-2005.

The study will collect information from nationally representative samples of SFAs and schools. SFAs will be selected as a sample with probability proportional to size. SFA directors will be asked to complete a web-based survey, with the option for telephone completion. A subsample of SFA directors will be recruited to participate in school-level data collection. Directors who agree to participate in school-level data collection will complete a brief telephone interview to provide key information about the SFA and about the schools sampled for data collection. Approximately three schools will be sampled in each SFA. School foodservice managers in sampled schools will complete a five-day menu survey, providing detailed information about the foods and beverages offered and served in school breakfasts, lunches, and, if offered, after school snacks. The menu survey will also collect information, for one day, about foods available for a la carte purchase at breakfast and lunch. Foodservice managers will also complete a separate survey that covers topics related to school food service operations. Principals in sampled schools will complete a web-based survey, with the option for telephone completion. Finally, school staff appointed by principals (referred to as school liaisons) will complete an observation checklist to document availability of competitive foods in vending machines, fundraisers, and venues outside the cafeteria, such as school stores and snack bars.

Affected Public: Respondent groups include: (1) SFA directors; (2) school foodservice managers; (3) principals; and (4) school staff appointed by principals to complete observation checklist (school liaisons).

Estimated Number of Respondents: The total estimated number of respondents is 3,591 which includes: (1) 750 SFA directors (80% will complete survey); (2) a random subsample of 375 of these SFA directors who will be asked to have their SFA participate in school-level data collection (80% will complete a telephone interview and agree to school-level data collection); (3) 947 school foodservice managers in SFAs that agree to school-level data collection (95% will complete two separate surveys, including a five-day menu survey); (4) 947 principals in SFAs that agree to school-level data collection (95% of principals in schools that complete a menu survey will complete a survey); and (5) 947 school liaisons in SFAs that agree to school-level data collection (95% of liaisons in schools that complete a menu survey will complete an observation checklist).

Estimated Number of Responses per Respondent: All respondents will be asked to respond to each instrument only once. However, SFA directors (600) will be asked to respond to the SFA director survey and a subsample of SFA directors (300) will be asked to complete the recruitment survey, required for the sampling of elementary, middle and high schools. In addition, school food service managers (900) will be asked to respond to the manager survey and the 5 day menu survey. School principals (855) and school liaisons (855) will be asked to complete only one survey instrument per respondent.

Estimated Total Annual Responses: 4,913.

Estimated Total Annual Burden on Respondents: 6,869.680 hours. See the table below for the estimated total annual burden for each type of respondent.

Reporting Burden
Respondent | Estimated number of respondents | Responses annually per respondent | Total annual responses | Estimated average number of hours per response | Estimated total annual hours of response burden
SFA Directors
SFA Director Survey
Completed interviews | 600 | 1.00 | 600 | 0.4175 | 250.500
Attempted interviews | 150 | 1.00 | 150 | 0.0500 | 7.500
SFA Recruitment Interview
Completed interviews | 300 | 1.00 | 300 | 0.3006 | 90.180
Attempted interviews | 75 | 1.00 | 75 | 0.0500 | 3.750
Total for SFA Directors
Completed interviews | 600 | 1.00 | 900 | 0.3785 | 340.680
Attempted interviews | 150 | 1.00 | 225 | 0.0500 | 11.250
School Foodservice Managers
School Food Service Manager Survey
Completed interviews | 900 | 1.00 | 900 | 0.3340 | 300.600
Attempted interviews | 47 | 1.00 | 47 | 0.0500 | 2.350
Menu Survey
Completed interviews | 900 | 1.00 | 900 | 6.1002 | 5,490.180
Attempted interviews | 47 | 1.00 | 47 | 0.0500 | 2.350
Total for School Food Service Managers
Completed interviews | 900 | 1.00 | 1,800 | 3.2171 | 5,790.780
Attempted interviews | 47 | 1.00 | 94 | 0.0500 | 4.700
Principals
Completed interviews | 855 | 1.00 | 855 | 0.3340 | 285.570
Attempted interviews | 92 | 1.00 | 92 | 0.0500 | 4.600
School Liaisons
Completed checklists | 855 | 1.00 | 855 | 0.5000 | 427.500
Attempted checklists | 92 | 1.00 | 92 | 0.0500 | 4.600
Total Responding Burden | 3,591 | 1.37 | 4,913 | 1.3983 | 6,869.680

Estimated Time per Response: 1.3983 hours. As shown in the above table, the estimated time of response varies from 20 minutes (0.3340 hours) to 6.1002 hours for responders and 5 minutes for non-responders, depending on the respondent group and instrument.

Dated: March 3, 2009.
E. Enrique Gomez,
Acting Administrator, Food and Nutrition Service.

[FR Doc. E9-4838 Filed 3-6-09; 8:45 am]

BILLING CODE 3410-30-P